DEPARTMENT OF THE INTERIOR

National Park Service

[NPS-WASO-NAGPRA-NPS0032042; PPWOCRADN0-PCU00RP14.R50000]

Notice of Intent To Repatriate Cultural Items: The University of California, Berkeley, Berkeley, CA

AGENCY: National Park Service, Interior.

ACTION: Notice.

SUMMARY: The University of California, Berkeley, in consultation with the appropriate Indian Tribes or Native Hawaiian organizations, has determined that the cultural items listed in this notice meet the definition of unassociated funerary objects and objects of cultural patrimony, respectively. Lineal descendants or representatives of any Indian Tribe or Native Hawaiian organization not identified in this notice that wish to claim these cultural items should submit a written request to the University of California, Berkeley. If no additional claimants come forward, transfer of control of the cultural items to the lineal descendants, Indian Tribes, or Native Hawaiian organizations stated in this notice may proceed.

DATES: Lineal descendants or representatives of any Indian Tribe or Native Hawaiian organization not identified in this notice that wish to claim these cultural items should submit a written request with information in support of the claim to the University of California, Berkeley at the address in this notice by July 8, 2021.

FOR FURTHER INFORMATION CONTACT: Dr. Thomas Torma; The University of California, Berkeley; 119 California Hall, Berkeley, CA 94720-1500, telephone: (510) 672-5388, email: t.torma@berkeley,edu.

SUPPLEMENTARY INFORMATION: Notice is here given in accordance with the Native American Graves Protection and Repatriation Act (NAGPRA), 25 U.S.C. 3005, of the intent to repatriate cultural items under the control of the University of California, Berkeley, Berkeley, CA, that meet the definition of unassociated funerary objects and objects of cultural patrimony, respectively, under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Items

In 1940 or 1941, one lot of beans was removed from Santa Clara Pueblo in Rio Arriba County, NM. At that time, George F. Carter collected the beans from representatives of the “East Delaware Indians of Okla.”, a term used for the modern Delaware Tribe of Indians. The exact breed of bean is unknown. The one object of cultural patrimony is one vial of beans.

In c. 1900, one hank of wampum was removed from an unknown location in Nebraska. It was collected by Frank B. Hutchens “from Indians who were being relocated by the government.” The items were made of shell, and the place of manufacture was recorded as New Jersey. The one object of cultural patrimony is a hank of wampum consisting of 27 strands of cylindrical shell beads.

In 1904, 1,895 funerary objects were removed from the vicinity of Abbott Farm in Mercer County, NJ. These items were collected by Ernest Volk as part of his annual excavations in the area and sent to the University of California. The items collected were from funerary sites south of Trenton that stretch along Crosswicks Creek, from the Delaware River to Yardville, NJ. The 1,895 unassociated funerary objects are: 842 items described as “lithics and pottery”; three sets of faunal remains; 62 items described as “hammerstones and flakes”; 511 lithics; 21 items described as “lithics and mica”; 27 items described as “lithics, pottery, and bone”; 115 items described as “lithics, pottery, and charcoal”; 93 items described as “lithics, pottery, antler, and pipe”; 220 items described as “lithics, pottery, bone, charcoal and botanical remains”; and one piece of pottery.

Determinations Made by the University of California, Berkeley

Officials of the University of California, Berkeley have determined that:

• Pursuant to 25 U.S.C. 3001(3)(B), the 1,895 cultural items collected from New Jersey and described above are reasonably believed to have been placed with or near individual human remains at the time of death or later as part of the death rite or ceremony and are believed, by a preponderance of the evidence, to have been removed from a specific burial site of a Native American individual.

• Pursuant to 25 U.S.C. 3001(3)(D), the two cultural items collected from New Mexico and Nebraska and described above have ongoing historical, traditional, or cultural importance central to the Native American group or culture itself, rather than property owned by an individual.

• Pursuant to 25 U.S.C. 3001(2), there is a relationship of shared group identity that can be reasonably traced between the unassociated funerary objects and objects of cultural patrimony and the Delaware Nation, Oklahoma; Delaware Tribe of Indians; and the Stockbridge Munsee Community, Wisconsin (hereafter referred to as “The Tribes”).

Additional Requestors and Disposition

Lineal descendants or representatives of any Indian Tribe or Native Hawaiian organization not identified in this notice that wish to claim these cultural items should submit a written request with information in support of the claim to Dr. Thomas Torma, The University of California, Berkeley, 119 California Hall, Berkeley, CA 94720-1500, telephone (510) 672-5388, email t.torma@berkeley,edu, by July 8, 2021. After that date, if no additional claimants have come forward, transfer of control of the unassociated funerary objects and objects of cultural patrimony to The Tribes may proceed.

The University of California, Berkeley is responsible for notifying The Tribes that this notice has been published.

Dated: May 25, 2021.
Melanie O'Brien,
Manager, National NAGPRA Program.

[FR Doc. 2021-11946 Filed 6-7-21; 8:45 am]

BILLING CODE 4312-52-P